SURFACE TRANSPORTATION BOARD

[Docket No. FD 36834]

Kansas City West Bottoms Railroad, LLC—Operation Exemption With Interchange Commitment—Union Pacific Railroad Company

Kansas City West Bottoms Railroad, LLC (KCWB), a noncarrier, has filed a verified notice of exemption pursuant to 49 CFR 1150.31 to lease from Union Pacific Railroad Company (UP) and operate a line of railroad consisting of a track running adjacent to and parallel with UP's KC Metro Big Mary Subdivision between milepost 0.63 and milepost 1.60 in Kansas City, Jackson County, Mo., and Kansas City, Wyandotte County, Kan. (the Line).¹ KCWB will also lease and operate the adjacent State Line Yard Tracks, which it states fall under 49 U.S.C. 10906.

¹ KCWB states that the Line is currently UP side track. KCWB explains that the KC Metro Big Mary Subdivision mileposts are supplied as approximate cross-references to the terminal points on the adjacent track that will serve as KCWB's main line. KCWB states that it also determined that the actual track length of KCWB's proposed main line will be roughly 1.25 miles in length, rather than the 0.97 miles suggested by strict application of the milepost cross-references.

According to the verified notice, KCWB and UP have reached an agreement pursuant to which KCWB will lease and operate the Line.

This transaction is related to a concurrently filed verified notice of exemption in OPSEU Pension Plan Trust Fund, Jaguar Transport Holdings, LLC, and Jaguar Rail Holdings, LLC—Continuance in Control Exemption—Kansas City West Bottoms Railroad, Docket No. FD 36835, in which the filing parties seek to continue in control of KCWB upon KCWB's becoming a Class III rail carrier.

KCWB certifies that its projected annual revenues from this transaction will not result in it becoming a Class I or Class II rail carrier and are not expected to exceed $5 million. KCWB also certifies that the agreement with UP contains provisions that would limit future interchange with third-party connecting carriers. KCWB has provided additional information regarding the interchange commitment, as required by 49 CFR 1150.33(h).²

² KCWB filed a copy of the agreement under seal with the verified notice. See 49 CFR 1150.33(h)(1).

The transaction may be consummated on or after March 5, 2025, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed by February 26, 2025.

All pleadings, referring to Docket No. FD 36834, must be filed with the Surface Transportation Board either via e-filing on the Board's website or in writing addressed to 395 E Street SW, Washington, DC 20423-0001. In addition, a copy of each pleading must be served on KCWB's representative, Robert A. Wimbish, Fletcher & Sippel LLC, 29 North Wacker Drive, Suite 800, Chicago, IL 60606-3208.

According to KCWB, this action is categorically excluded from environmental review under 49 CFR 1105.6(c) and from historic preservation reporting requirements under 49 CFR 1105.8(b).

Board decisions and notices are available at www.stb.gov.

Decided: February 13, 2025.
By the Board, Mai T. Dinh, Director, Office of Proceedings.
Regena Smith-Bernard,
Clearance Clerk.

[FR Doc. 2025-02789 Filed 2-18-25; 8:45 am]

BILLING CODE 4915-01-P